DEPARTMENT OF HOUSING AND URBAN DEVELOPMENT

[Docket No. FR-5186-N-42]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Marsha Pruitt, Department of Agriculture, Reporters Building, 300 7th St, SW., Washington, DC 20250; (202) 720-4335; COAST GUARD: Commandant, United States Coast Guard, Attn: Teresa Sheinberg, 2100 Second St, SW., Rm 6109, Washington, DC 20593-0001; (202) 267-6142; GSA: Mr. John Smith, Deputy Assistant Commissioner, General Services Administration, Office of Property Disposal, 18th & F Streets, NW., Washington, DC 20405; (202) 501-0084; INTERIOR: Mr. Michael Wright, Acquisition & Property Management, Department of the Interior, 1849 C Street, NW., MS2603, Washington, DC 20240; (202) 208-5399; NAVY: Mrs. Mary Arndt, Acting Director, Department of the Navy, Real Estate Services, Naval Facilities Engineering Command, Washington Navy Yard, 1322 Patterson Ave., SE., Suite 1000, Washington, DC 20374-5065; (202) 685-9305. (These are not toll-free numbers.)

Dated: October 9, 2008.
Mark R. Johnston,
Deputy Assistant Secretary for Special Needs.

TITLE V, FEDERAL SURPLUS PROPERTY PROGRAM

FEDERAL REGISTER REPORT FOR 10/17/2008

Suitable/Available Properties

Buildings (by State)

Arizona

Bldg. 149

Desert View

Grand Canyon AZ 86023

Landholding Agency: Interior

Property Number: 61200830001

Status: Excess

Comments: 791 sq. ft., needs rehab, most recent use—residential, off-site use only.

Indiana

John A. Bushemi USARC

3510 W 15th Ave

Gary IN 46404

Landholding Agency: GSA

Property Number: 54200830027

Status: Excess

GSA Number: 1-D-IN-0602

Comments: 18,689 sq. ft. admin bldg & 3780 sq. ft. maintenance bldg.

Maine

Bldg. 1010

Schoodic Ed & Rsh Ctr

Acadia National Park

Hancock ME

Landholding Agency: Interior

Property Number: 61200830007

Status: Unutilized

Comments: 14200 sq. ft., presence of asbestos/lead paint, most recent use—office, off-site use only.

Bldg. 1046

Schoodic Ed & Rsh Ctr

Acadia National Park

Hancock ME

Landholding Agency: Interior

Property Number: 61200830008

Status: Unutilized

Comments: 178 sq. ft., presence of lead paint, most recent use—storage, off-site use only.

Bldg. 1172

Schoodic Ed & Rsh Ctr

Acadia National Park

Hancock ME

Landholding Agency: Interior

Property Number: 61200830009

Status: Unutilized

Comments: 1200 sq. ft., presence of asbestos/lead paint, most recent use—shed, off-site use only.

Bldg. 1210

Schoodic Ed & Rsh Ctr

Acadia National Park

Hancock ME

Landholding Agency: Interior

Property Number: 61200830011

Status: Unutilized

Comments: 108 sq. ft., most recent use—shed, off-site use only.

Bldg. 1213

Schoodic Ed & Rsh Ctr

Acadia National Park

Hancock ME

Landholding Agency: Interior

Property Number: 61200830012

Status: Unutilized

Comments: 544 sq. ft., most recent use—maintenance, off-site use only.

Bldgs. 1224, 1232

Schoodic Ed & Rsh Ctr

Acadia National Park

Hancock ME

Landholding Agency: Interior

Property Number: 61200830013

Status: Unutilized

Comments: 543/768 sq. ft., most recent use—storage, off-site use only.

Pennsylvania

Fmr Visitor Ctr/Cyclorama Bldg

National Military Park

Gettysburg PA 17325

Landholding Agency: Interior

Property Number: 61200830002

Status: Excess

Comments: needs major rehab, off-site use only.

Washington

Blaine Parking Lot

SR 543

Blaine WA 98230

Landholding Agency: GSA

Property Number: 54200830028

Status: Excess

GSA Number: 9-G-WA-1242

Comments: 2665 sq. ft., border crossing.

Unsuitable Properties

Buildings (by State)

California

2 Trailers

Mades/Skyline Buddy

Paicines CA 95043

Landholding Agency: Interior

Property Number: 61200830003

Status: Excess

Reasons: Extensive deterioration.

Bldg. 1391

Marine Corps Base

Camp Pendleton CA 92055

Landholding Agency: Navy

Property Number: 77200830025

Status: Excess

Reasons: Extensive deterioration.

Bldgs. 1211, 1213, 1214, 1216

Marine Corps Base

Camp Pendleton CA 92055

Landholding Agency: Navy

Property Number: 77200830026

Status: Excess

Reasons: Extensive deterioration.

Bldgs. 52654, 52655

Marine Corps Base

Camp Pendleton CA 92055

Landholding Agency: Navy

Property Number: 77200830027

Status: Excess

Reasons: Extensive deterioration.

3512/3518 & 2780/2786

Concord Housing

Concord CA

Landholding Agency: Coast Guard

Property Number: 88200830002

Status: Unutilized

Reasons: Extensive deterioration.

Colorado

Bldg. 782

La Poudre Pass

Larimer CO 80517

Landholding Agency: Interior

Property Number: 61200830004

Status: Unutilized

Reasons: Extensive deterioration.

Maine

Bldgs. 1008, 1009, 1140, 1155

Schoodic Ed & Rsh Ctr

Acadia National Park

Hancock ME

Landholding Agency: Interior

Property Number: 61200830010

Status: Unutilized

Reasons: Extensive deterioration.

Bldgs. 1208, 1223

Schoodic Ed & Rsh Ctr

Acadia National Park

Hancock ME

Landholding Agency: Interior

Property Number: 61200830014

Status: Unutilized

Reasons: Extensive deterioration.

Maryland

Bldg. 1675

Andrews AFB

Andrews AFB MD

Landholding Agency: Navy

Property Number: 77200830028

Status: Unutilized

Reasons: Secured Area.

Bldgs. 3000, 3093

Andrews AFB

Andrews AFB MD

Landholding Agency: Navy

Property Number: 77200830029

Status: Unutilized

Reasons: Secured Area.

Bldgs. 3150, 3157, 3164, 3165

Andrews AFB

Andrews AFB MD

Landholding Agency: Navy

Property Number: 77200830030

Status: Unutilized

Reasons: Secured Area.

Pennsylvania

4 Tracts

101-03, 101-04, 101-05, 101-06

Valley Forge NHP

King of Prussia PA 19406

Landholding Agency: Interior

Property Number: 61200830005

Status: Excess

Reasons: Extensive deterioration.

Tracts 101-28, 101-29

Valley Forge NHP

Wayne PA 19480

Landholding Agency: Interior

Property Number: 61200830006

Status: Excess

Reasons: Extensive deterioration.

Texas

Bldgs. 1414, 3190

Naval Air Station

Joint Reserve Base

Ft. Worth TX 76127

Landholding Agency: Navy

Property Number: 77200830031

Status: Unutilized

Reasons: Secured Area.

Washington

Bldgs. 986, 987

Naval Air Station

Whidbey Island

Oak Harbor WA 98278

Landholding Agency: Navy

Property Number: 77200840001

Status: Unutilized

Reasons: Secured Area.

Bldg. 94

Naval Air Station

Whidbey Island

Oak Harbor WA 98278

Landholding Agency: Navy

Property Number: 77200840002

Status: Excess

Reasons: Secured Area.

Wisconsin

Bldg. 41

Forest Products Lab

Madison WI

Landholding Agency: Agriculture

Property Number: 15200830001

Status: Excess

Reasons: Extensive deterioration.

[FR Doc. E8-24533 Filed 10-16-08; 8:45 am]

BILLING CODE 4210-67-P